DEPARTMENT OF TRANSPORTATION

Federal Aviation Administration

Notice of Intent to Rule on Application 04-07-C-00-JNU to Impose and Use the Revenue From a Passenger Facility Charge (PFC) at Juneau International Airport, Juneau, Alaska

AGENCY: Federal Aviation Administration (FAA), DOT.

ACTION: Notice of intent to rule on application.

SUMMARY: The FAA proposes to rule and invites public comment on the application to impose and use the revenue from a PFC at Juneau International Airport under the provisions of the 49 U.S.C. 40117 and Part 158 of the Federal Aviation Regulations (14 CFR Part 158).

DATES: Comments must be received on or before November 18, 2004.

ADDRESSES: Comments on this application may be mailed or delivered in triplicate to the FAA at the following address: Byron K. Huffman, Manager, Alaskan Region Airports Division, 222 West 7th Avenue, Box 14, Anchorage, AK 99513. In addition, one copy of any comments submitted to the FAA must be mailed or delivered to Mr. Allan A. Heese, Airport Manager, of the Juneau International Airport at the following address: Juneau International Airport, 1873 Shell Simmons Drive, Juneau, AK 99801.

Air carriers and foreign air carriers may submit copies of written comments previously provided to the Juneau International Airport under section 158.23 of Part 158.

FOR FURTHER INFORMATION CONTACT: James Lomen, Programming Specialist, Alaskan Region Airports Division, AAL-610, 222 W 7th Avenue, Box 14, Anchorage, AK 99513, (907) 271-5816. The application may be reviewed in person at this same location.

SUPPLEMENTARY INFORMATION: The FAA proposes to rule and invites public comment on the application to impose and use the revenue from a PFC at Juneau International Airport under the provisions of the 49 U.S.C. 40117 and Part 158 of the Federal Aviation Regulations (14 CFR Part 158).

On October 5, 2004, the FAA determined that the application to impose and use the revenue from a PFC submitted by the City and Borough of Juneau, Juneau International Airport, Juneau, Alaska was substantially complete within the requirements of §158.25 of Part 158. The FAA will approve or disapprove the application, in whole or in part, no later than January 5, 2005.

The following is a brief overview of the application.

Proposed charge effective date: January 1, 2005.

Proposed charge expiration date: November 30, 2009.

Level of proposed PFC: $4.50.

Total estimated PFC revenue: $4,706,313.

Brief description of proposed projects:

Projects To Impose and Use: Airport Improvement Program matching funds for: Equipment purchase AIP-35 (Snow Brooms, Skidsteer, Command Vehicle, Chemical Truck); Departure Area Security Improvements (AIP-36); Security Upgrades and Equipment Phase 2 (AIP-38); Rehabiliate Airport Main Entrance Road; Expand Terminal Building—Feasibility Study/Planning; Construct Taxiway Extensions C1, W2; Acquire Airside Vehicles & Equipment; Construct Delta-1 Ramp Expansion; Acquire Security Vehicle, and Rehabilitate West GA Area Paving. Full project funding for: Purchase of snow removal support vehicle (unit 4) and Purchase Land for Airport Expansion.

Impose-Only Project: Wildlife Hazard Management Plan Implementation, Phase 1.

Class or classes of air carriers which the public agency has requested not be required to collect PFCs: None.

Any person may inspect the application in person at the FAA office listed above under FOR FURTHER INFORMATION CONTACT and at the FAA regional Airports office located at: 222 W 7th Avenue, Anchorage, AK.

In addition, any person may, upon request, inspect the application, notice and other documents germane to the application in person at Juneau International Airport, 1873 Shell Simmons Drive, Juneau, AK.

Issued in Anchorage, Alaska, on October 6, 2004.
Byron K. Huffman,
Manager, Airports Division, Alaskan Region.

[FR Doc. 04-23383 Filed 10-18-04; 8:45 am]

BILLING CODE 4910-13-M